BROADCASTING BOARD OF GOVERNORS

Sunshine Act Meeting Notice

DATE AND TIME: Wednesday, October 23, 2013, 9:15 a.m. EDT.

PLACE: Cohen Building, Room 3321, 330 Independence Ave. SW., Washington, DC 20237.

SUBJECT: Notice of Meeting of the Broadcasting Board of Governors.

SUMMARY: The Broadcasting Board of Governors (BBG) will be meeting at the time and location listed above. Items on the Board's consent agenda include the minutes of the August 21, 2013 meeting and resolutions concerning proposed meeting dates for calendar year 2014, reform of the Board's committee structure, establishment of a special committee on a chief executive officer, establishment of a special committee on shortwave, the Boards of Directors of BBG-funded grantees, and Board travel policy.

This meeting will also be available for public observation via streamed webcast, both live and on-demand, on the BBG's public Web site at www.bbg.gov. Information regarding this meeting, including any updates or adjustments to its starting time, can also be found on the Agency's public Web site.

The public may also attend this meeting in person, unless the partial government shutdown persists, at the address listed above as seating capacity permits. Member of the public seeking to attend the meeting in person must register at https://bbgboardmeetingoct2013.eventbrite.com by 12:00 p.m. (EDT) on October 22. For more information, please contact BBG Public Affairs at (202) 203-4400 or by email at pubaff@bbg.gov.

CONTACT PERSON FOR MORE INFORMATION: Persons interested in obtaining more information should contact Paul Kollmer-Dorsey at (202) 203-4545.

Paul Kollmer-Dorsey,
Deputy General Counsel.

[FR Doc. 2013-24576 Filed 10-17-13; 4:15 pm]

BILLING CODE 8610-01-P